DEPARTMENT OF TRANSPORTATION

Federal Aviation Administration

Notice of Intent To Rule on Application 02-02-C-00-AVL, Impose and Use the Revenue From a Passenger Facility Charge (PFC) at Asheville Regional Airport, Asheville, NC

AGENCY: Federal Aviation Administration (FAA), DOT.

ACTION: Notice of intent to rule on application.

SUMMARY: The FAA proposes to rule and invites public comment on the application to impose and use the revenue from a PFC at Asheville Regional Airport under the provisions of the 49 U.S.C. 40117 and part 158 of the Federal Aviation Regulations (14 CFR part 158).

DATES: Comments must be received on or before May 29, 2002.

ADDRESSES: Comments on this application may be mailed or delivered in triplicate to the FAA at the following address: Atlanta Airports District Office, Campus Building, Suite 2-260, 1701 Columbia Avenue, College Park, GA 30337.

In addition, one copy of any comments submitted to the FAA must be mailed or delivered to Mr. C.M. Armour, A.A.E., Airport Director of the Asheville Regional Airport Authority at the following address; Asheville Regional Airport, 708 Airport Road, Fletcher, NC 28732.

Air carriers and foreign air carriers may submit copes of written comments previously provided to the Asheville Regional Airport Authority under section 158.23 of part 158.

FOR FURTHER INFORMATION CONTACT: Tracie D. Kleine, Program Manager, Atlanta Airports District Office, 1701 Columbia Avenue, Suite 2-260, College Park, GA 30337, 404-305-7148.

The application may be reviewed in person at this same location.

SUPPLEMENTARY INFORMATION: The FAA proposes to rule and invites public comment on the application to impose and use the revenue from a PFC at Asheville Regional Airport under the provisions of the 49 U.S.C. 40117 and part 158 of the Federal Aviation Regulations (14 CFR part 158).

On April 18, 2002, the FAA determined that the application to impose and use the revenue from a PFC submitted by Asheville Regional Airport Authority was substantially complete within the requirements of § 158.25 of part 158. The FAA will approve or disapprove the application, in whole or in part, no later than June 17, 2002.

The following is a brief overview of the application.

Proposed charge effective date: July 1, 2002.

Proposed charge expiration date: August 1, 2006.

Level of the proposed PFC: $4.50.

Total estimated PFC revenue: $ amount requested for impose and/or use.

Brief description of proposed project(s): list project(s) by major project element.

Level of the proposed PFC: $ 4.00, 4.50.

Total estimated PFC revenue: $4,987,794.00.

Brief description of proposed project(s):

Fire Alarm System

FIDs (fit into display)

Runway 16 ERSA, Phase I

Runway 16 ERSA, Phase II

Rehab Sidewalks

Loop Road Modifications

Perimeter Security Road

ARFF Road

Perimeter Fencing

Runway 16 ERSA, Phase III

Roof Replacement

Backup Generators

Chiller Replacement

Master Plan Update

Baggage Belt

Modification to loading Bridge

Terminal Improvements (ticket counter & baggage area)

Recable & Raise HIRLs

RSA Improvements (includes taxiway safety area)

Expand Baggage Claim (includes cubside expansion)

Expand Terminal (holding room)

New Airfield Lighting Vault

GA Ramp Expansion (includes bypass taxiway)

Rehabilitate Runway & Taxiway

Passenger Lift Device

Runway 16, CAT II Touchdown Zone lights

Raise MITL

Terminal Fire Protection System (sprinkler)

Modify Terminal (convert Rental to bus/taxi/van)

Northern Access System

Perimeter Security Road, Phase II

Emergency Response Trailer

Security Enhancements

PFC Administrative Costs

Class or classes of air carriers which the public agency has requested not be required to collect PFCs: ATCO filing FAA form 1800-31 Any person may inspect the application in person at the FAA office listed above under FOR FURTHER INFORMATION CONTACT and at the FAA regional Airports office located at: 1701 Columbia Avenue, College Park, GA 30337.

In addition, any person may, upon request, inspect the application, notice and other documents germane to the application in person at the Asheville Regional Airport Authority.

Issued in College Park, Georgia on April 22, 2002.
Scott L. Seritt,
Manager, Atlanta Airports District Office, Southern Region.

[FR Doc. 02-10503 Filed 4-26-02; 8:45 am]

BILLING CODE 4910-13-M